DEPARTMENT OF TRANSPORTATION

Federal Aviation Administration

14 CFR Part 39

[Docket No. 2001-SW-03-AD]

RIN 2120-AA64

Airworthiness Directives; Eurocopter France Model AS-365N3 Helicopters

AGENCY: Federal Aviation Administration, DOT.

ACTION: Notice of proposed rulemaking (NPRM).

SUMMARY: This document proposes adopting a new airworthiness directive (AD) for Eurocopter France Model AS-365N3 helicopters. This proposal would require modifying the Full Authority Digital Engine Control (FADEC) software within 90 days after the effective date of this AD. This proposal is prompted by a design problem in the FADEC “power loss printed circuit board” software found during laboratory testing. The actions specified by the proposed AD are intended to prevent loss of the FADEC one-engine-inoperative (OEI) power and subsequent loss of control of the helicopter.

DATES: The FAA must receive any comments on this proposal by July 9, 2001.

ADDRESSES: Submit comments in triplicate to the Federal Aviation Administration (FAA), Office of the Regional Counsel, Southwest Region, Attention: Rules Docket No. 2001-SW-03-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Carroll Wright, Aviation Safety Engineer, FAA, Rotorcraft Directorate, Regulations Group, Fort Worth, Texas 76193-0111, telephone (817) 222-5120, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-03-AD.” The postcard will be date stamped and returned to the commenter.

Availability of NPRMs

Any person may obtain a copy of this NPRM by submitting a request to the FAA, Office of the Regional Counsel, Southwest Region, Attention: Rules Docket No. 2001-SW-03-AD, 2601 Meacham Blvd., Room 663, Fort Worth, Texas 76137.

Discussion

The Direction Generale De L'Aviation Civile (DGAC), the airworthiness authority for France, notified us that an unsafe condition may exist on Eurocopter France Model AS-365N3 helicopters. The DGAC advises that the engine FADEC software and the associated existing wiring for the engine indicating system for the FADEC should be modified. The main purpose of these modifications is to transfer the “OEI torque limit setting” and the “NG difference indicating” function from the “power loss” card to the main computer. This modification should eliminate hung starts and loss of access to the maximum allowable emergency OEI power from the remaining engine after one engine has failed.

Eurocopter France has issued Eurocopter France Service Bulletin (SB) 71.00.13, Revision 1, dated October 17, 2000. This SB specifies modifying the engine FADEC computer software and the associated existing wiring. The DGAC classified this SB as mandatory and issued AD No. 2000-517-051(A), dated December 13, 2000, to ensure the continued airworthiness of these helicopters in France. Incorporation of the SB provides terminating action for DGAC AD Nos. 1998-517-048(A) R2, dated December 13, 2000; 1998-517-048(A) R1, dated April 5, 2000; and 1998-517-048(A), dated January 13, 1999.

This helicopter model is manufactured in France and is type certificated for operation in the United States under the provisions 14 CFR 21.29 and the applicable bilateral airworthiness agreement. Pursuant to this bilateral airworthiness agreement, the DGAC has kept the FAA informed of the situation described above. The FAA has examined the findings of the DGAC, reviewed all available information, and determined that AD action is necessary for products of this type design that are certificated for operation in the United States.

We have identified an unsafe condition that is likely to exist or develop on other Eurocopter France Model AS-365N helicopters of this same type design registered in the United States. The proposed AD would require modifying the FADEC software and wiring within 90 days after the effective date of this AD. The actions would be required to be accomplished in accordance with the SB's described previously.

Regulatory Impact

We estimate that 1 helicopter of U.S. registry would be affected by this proposed AD and that it would take approximately 17 work hours per helicopter to modify the wiring. The average labor rate is $60 per work hour. The FADEC software modification will have an estimated turbomeca labor charge of $1200. The manufacturer has stated that the wiring kits will be furnished at no cost. Based on these figures, the total cost impact of the proposed AD on U.S. operators is estimated to be $2220.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. You can get a copy of the draft regulatory evaluation prepared for this action from the Rules Docket. A copy of it may be obtained by contacting the Rules Docket at the mailing address listed under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Eurocopter France: Docket No. 2001-SW-03-AD.

Applicability: Model AS-365N3 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Within 90 days after the effective date of this AD, unless previously accomplished.

To prevent loss of the Full Authority Digital Engine Control (FADEC) one-engine-inoperative power and subsequent loss of control of the helicopter, accomplish the following:

(a) Modify the FADEC software in accordance with the Accomplishment Instructions of Eurocopter France Service Bulletin 71.00.13, Revision 1, dated October 17, 2000 (except this AD does not require contact with the manufacturer as specified in the caution statement in paragraph 2.B. and the Note I in paragraph 2.B.2.).

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

Note 3: The subject of this AD is addressed in Direction Generale De L'Aviation Civile (France) AD Nos. 2000-517-051(A) and 1998-517-048(A) R2, both dated December 13, 2000; 1998-517-048(A) R1, dated April 5, 2000; and 1998-517-048(A), dated January 13, 1999.

Issued in Fort Worth, Texas, on April 26, 2001.
Mark R. Schilling,
Acting Manager, Rotorcraft Directorate,, Aircraft Certification Service.

[FR Doc. 01-11585 Filed 5-8-01; 8:45 am]

BILLING CODE 4910-13-U